Executive Order 14072 of April 22, 2022

Strengthening the Nation's Forests, Communities, and Local Economies

By the authority vested in me as President by the Constitution and the laws of the United States of America, it is hereby ordered as follows:

Section 1. Policy. Strengthening America's forests, which are home to cherished expanses of mature and old-growth forests on Federal lands, is critical to the health, prosperity, and resilience of our communities—particularly in light of the threat of catastrophic wildfires. Forests provide clean air and water, sustain the plant and animal life fundamental to combating the global climate and biodiversity crises, and hold special importance to Tribal Nations. We go to these special places to hike, camp, hunt, fish, and engage in recreation that revitalizes our souls and connects us to history and nature. Many local economies thrive because of these outdoor and forest management activities, including in the sustainable forest product sector.

Globally, forests represent some of the most biodiverse parts of our planet and play an irreplaceable role in reaching net-zero greenhouse gas emissions. Terrestrial carbon sinks absorb around 30 percent of the carbon dioxide emitted by human activities each year. Here at home, America's forests absorb more than 10 percent of annual United States economy-wide greenhouse gas emissions. Conserving old-growth and mature forests on Federal lands while supporting and advancing climate-smart forestry and sustainable forest products is critical to protecting these and other ecosystem services provided by those forests.

Despite their importance, the world's forests are quickly disappearing; only a small fraction of the world's mature and old-growth forests remains. Here at home, the primary threats to forests, including mature and old-growth forests, include climate impacts, catastrophic wildfires, insect infestation, and disease. We can and must take action to conserve, restore, reforest, and manage our magnificent forests here at home and, working closely with international partners, throughout the world.

It is the policy of my Administration, in consultation with State, local, Tribal, and territorial governments, as well as the private sector, nonprofit organizations, labor unions, and the scientific community, to pursue science-based, sustainable forest and land management; conserve America's mature and old-growth forests on Federal lands; invest in forest health and restoration; support indigenous traditional ecological knowledge and cultural and subsistence practices; honor Tribal treaty rights; and deploy climate-smart forestry practices and other nature-based solutions to improve the resilience of our lands, waters, wildlife, and communities in the face of increasing disturbances and chronic stress arising from climate impacts. It is also the policy of my Administration, as outlined in Conserving and Restoring America the Beautiful, to support collaborative, locally led conservation solutions.

The Infrastructure Investment and Jobs Act (IIJA) I signed into law provides generational investments in ecosystem restoration and wildfire risk reduction. As we use this funding, we will seek opportunities, consistent with the IIJA, to conserve our mature and old-growth forests on Federal lands and restore the health and vibrancy of our Nation's forests by reducing the threat of catastrophic wildfires through ecological treatments that create resilient forest conditions using active, science-based forest management and prescribed fires; by incorporating indigenous traditional ecological knowledge; and by scaling up and optimizing climate-smart reforestation. My Administration also is committed to doing its part to combat deforestation around the world and to working with our international partners toward sustainable management of the world's lands, waters, and ocean.

Sec. 2. Restoring and Conserving the Nation's Forests, Including Mature and Old-Growth Forests. My Administration will manage forests on Federal lands, which include many mature and old-growth forests, to promote their continued health and resilience; retain and enhance carbon storage; conserve biodiversity; mitigate the risk of wildfires; enhance climate resilience; enable subsistence and cultural uses; provide outdoor recreational opportunities; and promote sustainable local economic development. Science-based reforestation is one of the greatest opportunities both globally and in the United States for the land sector to contribute to climate and biodiversity goals. To further conserve mature and old-growth forests and foster long-term United States forest health through climate-smart reforestation for the benefit of Americans today and for generations to come, the following actions shall be taken, in consultation with State, local, Tribal, and territorial governments and the public, and to the extent consistent with applicable law:

(a) The Secretary of the Interior and the Secretary of Agriculture (Secretaries)—the Federal Government's primary land managers—shall continue to jointly pursue wildfire mitigation strategies, which are already driving important actions to confront a pressing threat to mature and old-growth forests on Federal lands: catastrophic wildfires driven by decades of fire exclusion and climate change.

(b) The Secretary of the Interior, with respect to public lands managed by the Bureau of Land Management, and the Secretary of Agriculture, with respect to National Forest System lands, shall, within 1 year of the date of this order, define, identify, and complete an inventory of old-growth and mature forests on Federal lands, accounting for regional and ecological variations, as appropriate, and shall make such inventory publicly available.

(c) Following completion of the inventory, the Secretaries shall:

(i) coordinate conservation and wildfire risk reduction activities, including consideration of climate-smart stewardship of mature and old-growth forests, with other executive departments and agencies (agencies), States, Tribal Nations, and any private landowners who volunteer to participate;

(ii) analyze the threats to mature and old-growth forests on Federal lands, including from wildfires and climate change; and

(iii) develop policies, with robust opportunity for public comment, to institutionalize climate-smart management and conservation strategies that address threats to mature and old-growth forests on Federal lands.

(d) The Secretaries, in coordination with the heads of other agencies as appropriate, shall within 1 year of the date of this order:

(i) develop a Federal goal that charges agencies to meet agency-specific reforestation targets by 2030, including an assessment of reforestation opportunities on Federal lands and through existing Federal programs and partnerships;

(ii) develop, in collaboration with Federal, State, Tribal, and private-sector partners, a climate-informed plan (building on existing efforts) to increase Federal cone and seed collection and to ensure seed and seedling nursery capacity is sufficient to meet anticipated reforestation demand; and

(iii) develop, in coordination with the Secretary of Commerce, with State, local, Tribal, and territorial governments, and with the private sector, nonprofit organizations, labor unions, and the scientific community, recommendations for community-led local and regional economic development opportunities to create and sustain jobs in the sustainable forest product sector, including innovative materials, and in outdoor recreation, while supporting healthy, sustainably managed forests in timber communities.

Sec. 3. Stopping International Deforestation. As described in the Plan to Conserve Global Forests: Critical Carbon Sinks, my Administration has committed to deliver, by 2030, on collective global goals to end natural forest loss and to restore at least an additional 200 million hectares of forests and other ecosystems, while showcasing new economic models that reflect the services provided by critical ecosystems around the world. The plan recognizes that conserving and restoring global forest and peatland ecosystems, particularly in the Amazon, Congo Basin, and Southeast Asia, can provide significant global greenhouse gas emissions mitigation, both by preventing the emissions caused by deforestation and by increasing the amount of carbon dioxide captured from the atmosphere and stored in soils and forest biomass. My Administration is also committed to combating illegal logging and stopping trade in illegally sourced wood products pursuant to the Lacey Act, as amended, 16 U.S.C. 3371 et seq., and to addressing the related importation of commodities sourced from recently deforested land. To further advance these commitments, conserve these critical ecosystems, and address drivers of global deforestation—including illegal forest clearing to produce agricultural commodities—the following actions shall be taken:

(a) within 1 year of the date of this order, the Secretary of State, in consultation with the Secretary of the Treasury, the Secretary of Agriculture, the Secretary of Commerce, the Secretary of Homeland Security (through the Commissioner of U.S. Customs and Border Protection), the Administrator of the Small Business Administration, the Administrator of the United States Agency for International Development, the United States Trade Representative, and the Special Presidential Envoy for Climate, shall submit a report to the President evaluating options, including recommendations for proposed legislation, for a whole-of-government approach to combating international deforestation that includes:

(i) an analysis of the feasibility of limiting or removing specific commodities grown on lands deforested either illegally or after December 31, 2020, from agricultural supply chains; and

(ii) an analysis of the potential for public-private partnerships with major agricultural commodity buyers, traders, financial institutions, and other actors to voluntarily reduce or eliminate the purchase of such commodities and incentivize sourcing of sustainably produced agricultural commodities.

(b) within 1 year of the date of this order, the Secretary of State, in coordination with other appropriate agencies, shall submit a report to the President on how agencies that engage in international programming, assistance, finance, investment, trade, and trade promotion, can, consistent with applicable law, accomplish the following:

(i) incorporate the assessment of risk of deforestation and other land conversion into guidance on foreign assistance and investment programming related to infrastructure development, agriculture, settlements, land use planning or zoning, and energy siting and generation;

(ii) address deforestation and land conversion risk in new relevant trade agreements and seek to address such risks, where possible, in the implementation of existing trade agreements;

(iii) identify and engage in international processes and fora, as appropriate, to pursue approaches to combat deforestation and enhance sustainable land use opportunities in preparing climate, development, and finance strategies;

(iv) engage other major commodity-importing and commodity-producing countries to advance common interests in addressing commodity-driven deforestation; and

(v) assess options to direct foreign assistance and other agency programs and tools, as appropriate, to help threatened forest communities transition to an economically sustainable future, with special attention to the participation of and the critical role played by indigenous peoples and local communities and landholders in protecting and restoring forests and in reducing deforestation and forest degradation.

Sec. 4. Deploying Nature-Based Solutions to Tackle Climate Change and Enhance Resilience. Just as forest conservation, restoration, and adaptation generate broad benefits related to climate change and other areas, other nature-based solutions can advance multiple benefits. These solutions include actions that protect coasts and critical marine ecosystems, reduce flooding, moderate extreme heat, replenish groundwater sources, capture and store carbon dioxide, conserve biodiversity, and improve the productivity of agricultural and forest lands to produce food and fiber. To ensure that agencies pursue nature-based solutions, to the extent consistent with applicable law and supported by science, the following actions shall be taken:

(a) The Chair of the Council on Environmental Quality, the Director of the Office of Science and Technology Policy, and the Assistant to the President and National Climate Advisor shall, in consultation with the Secretary of Defense (through the Assistant Secretary of the Army for Civil Works), the Secretary of the Interior, the Secretary of Agriculture, the Secretary of Commerce (through the Administrator of the National Oceanic and Atmospheric Administration), the Secretary of Housing and Urban Development, the Secretary of Transportation, the Secretary of Energy, the Secretary of Homeland Security (through the Administrator of the Federal Emergency Management Agency), the Administrator of the Environmental Protection Agency, the Administrator of the Small Business Administration, and the heads of other agencies as appropriate, submit a report to the National Climate Task Force to identify key opportunities for greater deployment of nature-based solutions across the Federal Government, including through potential policy, guidance, and program changes.

(b) The Director of the Office of Management and Budget shall issue guidance related to the valuation of ecosystem and environmental services and natural assets in Federal regulatory decision-making, consistent with the efforts to modernize regulatory review required by my Presidential Memorandum of January 20, 2021 (Modernizing Regulatory Review).

(c) Implementation of the United States Global Change Research Program shall include an assessment of the condition of nature within the United States in a report carrying out section 102 of the Global Change Research Act of 1990, 15 U.S.C. 2932.

Sec. 5. General Provisions. (a) Nothing in this order shall be construed to impair or otherwise affect:

(i) the authority granted by law to an executive department or agency, or the head thereof; or

(ii) the functions of the Director of the Office of Management and Budget relating to budgetary, administrative, or legislative proposals.

(b) This order shall be implemented consistent with applicable law and subject to the availability of appropriations.

(c) This order is not intended to, and does not, create any right or benefit, substantive or procedural, enforceable at law or in equity by any party against the United States, its departments, agencies, or entities, its officers, employees, or agents, or any other person.

THE WHITE HOUSE,

April 22, 2022.

[FR Doc. 2022-09138

Filed 4-26-22; 8:45 am]

Billing code 3395-F2-P